DEPARTMENT OF ENERGY

Federal Energy Regulatory Commission

Combined Notice of Filings #1

Take notice that the Commission received the following electric rate filings:

Docket Numbers: ER11-4380-003; ER12-2677-001; ER10-2431-004; ER11-2363-003; ER10-2434-004; ER10-2467-004; ER11-3731-005; ER10-2488-008; ER12-1931-004; ER10-2504-005; ER12-610-005; ER13-338-003; ER12-2037-003; ER12-2314-002; ER10-2436-004; ER11-4381-003.

Applicants: Bellevue Solar, LLC, Catalina Solar, LLC, Chanarambie Power Partners, LLC, Chestnut Flats Wind, LLC, Fenton Power Partners I, LLC, Hoosier Wind Project, LLC, LWP Lessee, LLC, Oasis Power Partners, LLC, Pacific Wind Lessee, LLC, Shiloh Wind Project 2, LLC, Shiloh III Lessee, LLC, Shiloh IV Lessee, LLC, Spearville 3, LLC, Spinning Spur Wind LLC, Wapsipinicon Wind Project, LLC, Yamhill Solar, LLC.

Description: Notice of Change in Status of the EDF-RE MBR Companies.

Filed Date: 6/21/13.

Accession Number: 20130621-5149.

Comments Due: 5 p.m. ET 7/12/13.

Docket Numbers: ER12-1653-004.

Applicants: New York Independent System Operator, Inc.

Description: NYISO compliance errata to order 755.frequency regulation 1/22/13 filing to be effective 6/26/2013.

Filed Date: 6/21/13.

Accession Number: 20130621-5081.

Comments Due: 5 p.m. ET 7/12/13.

Docket Numbers: ER13-1180-001.

Applicants: PacifiCorp.

Description: PacifiCorp Energy Carbon Decom Construction Agrmnt Compliance Filing to be effective 3/29/2013.

Filed Date: 6/21/13.

Accession Number: 20130621-5102.

Comments Due: 5 p.m. ET 7/12/13.

Docket Numbers: ER13-1402-001.

Applicants: Arizona Public Service Company.

Description: Modify Effective Date of Requested Rate Treatment and Cancellation of RS 38 to be effective 12/31/9998.

Filed Date: 6/21/13.

Accession Number: 20130621-5101.

Comments Due: 5 p.m. ET 7/12/13.

Docket Numbers: ER13-1571-001.

Applicants: Southwest Power Pool, Inc.

Description: 2551 Substitute Original Kansas Municipal Energy Agency NITSA NOA to be effective 5/1/2013.

Filed Date: 6/21/13.

Accession Number: 20130621-5130.

Comments Due: 5 p.m. ET 7/12/13.

Docket Numbers: ER13-1747-000.

Applicants: eBay Inc.

Description: eBay Inc. MBR Application and Initial MBR Tariff to be effective 8/26/2013.

Filed Date: 6/21/13.

Accession Number: 20130621-5118.

Comments Due: 5 p.m. ET 7/12/13.

Docket Numbers: ER13-1748-000.

Applicants: Southwest Power Pool, Inc.

Description: Order No. 755 Compliance to be effective 3/1/2015.

Filed Date: 6/21/13.

Accession Number: 20130621-5131.

Comments Due: 5 p.m. ET 7/12/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 24, 2013.
Nathaniel J. Davis, Sr.,
Deputy Secretary.

[FR Doc. 2013-15798 Filed 7-1-13; 8:45 am]

BILLING CODE 6717-01-P